EXPORT-IMPORT BANK OF THE UNITED STATES

Economic Impact Policy

This notice is to inform the public that the Export-Import Bank of the United States has received an application for a $22.5 million working capital guarantee to support the export of approximately $21.6 million worth of titanium refining and production equipment to Kazakhstan. The repayment term of the guarantee is 18 months. The U.S. exports will enable the Kazakh firm to establish a maximum production capacity of 7,000 metric tons of titanium per year. Available information indicates that all of the new Kazakh titanium production will be sold in South Korea. Interested parties may submit comments on this transaction by email to economic.impact@exim.gov or by mail to 811 Vermont Avenue NW., Room 947, Washington, DC 20571, within 14 days of the date this notice appears in the Federal Register.

Angela Mariana Freyre,
Senior Vice President and General Counsel.

[FR Doc. 2012-14856 Filed 6-18-12; 8:45 am]

BILLING CODE 6690-01-P